DEPARTMENT OF TRANSPORTATION

Federal Railroad Administration

Environmental Impact Statement for the Atlanta to Charlotte Portion of the Southeast High Speed Rail Corridor

AGENCY: Federal Rail Administration (FRA), DOT.

ACTION: Notice of Intent (NOI) to prepare an Environmental Impact Statement (EIS).

SUMMARY: The FRA is issuing this Notice of Intent to advise the public that FRA, jointly with the Georgia Department of Transportation (GDOT), will prepare a Tier 1 Environmental Impact Statement (Study) to evaluate potential passenger rail improvements between Atlanta, GA and Charlotte, NC, along the Southeast High-Speed Rail Corridor (SEHSR) as designated by the USDOT. The Study is being advanced consistent with the federal High-Speed Intercity Passenger Rail (HSIPR) program and includes the development of a Passenger Rail Corridor Investment Plan (PRCIP). A PRCIP provides the data necessary to support an FRA decision to fund and implement major investments in a passenger rail corridor. A PRCIP is comprised of two components: A Tier 1 EIS and a Service Development Plan (SDP). The Tier 1 EIS will address documentation on a broad corridor-level basis and be developed in accordance with the National Environmental Policy Act of 1969 (NEPA), the Council on Environmental Quality (CEQ) regulations, and FRA's Procedures for Considering Environmental Impacts. The SDP addresses the overall scope, alternatives, approach and business case for proposed service and improvements.

DATES: FRA invites the public, governmental agencies, and all other interested parties to comment on the scope of the EIS. Written comment(s) on the scope of the Tier 1 EIS should be provided to GDOT or FRA by June 7, 2013 at the addresses below. Federal, state and local agencies are invited to attend one (1) web-based Agency Scoping Meeting. Three (3) Public Open House Meetings will follow the Agency Scoping Meeting, one to be held in each of the three study area states (Georgia, North Carolina, and South Carolina). Dates, locations and times for meetings and related information can be found on the Project Web site: www.dot.ga.gov/AtlantaCharlotteHSR.

ADDRESSES: Comments related to the scope of the study may be mailed to Glenn Bowman, PE, State Environmental Administrator, 600 West Peachtree Street NW., Atlanta, GA 30308, telephone (404) 631-1101, gbowman@dot.ga.gov, or to John Winkle, FRA, 1200 New Jersey Avenue SE., Washington, DC 20590, telephone (202) 493-6067, john.winkle@dot.gov. If a member of the public wishes to participate and cannot attend the public open house meetings, and does not have access to the Internet, they can request an informational package and comment form by contacting Glenn Bowman at the above address, or directly at (404) 631-1101 or John Winkle at the above address.

FOR FURTHER INFORMATION CONTACT: John Winkle, FRA, 1200 New Jersey Avenue SE., Washington, DC 20590, telephone (202) 493-6067, john.winkle@dot.gov. Information and documents regarding the environmental review process will be made available through the following Web site: http://www.dot.ga.gov/AtlantaCharlotteHSR.

SUPPLEMENTARY INFORMATION: As part of the Tier 1 EIS, FRA will establish and evaluate a range of reasonable corridor-level Alternatives that terminate in Atlanta, GA and connect to the SEHSR corridor in the Charlotte, NC metropolitan area. The alternatives will also include a No Build Alternative. The No Build Alterative consists of already planned transportation improvements to the corridor, but would not advance any Build Alternative to implement high-speed rail. Build Alternatives will consist of an array of passenger rail alternatives, including the use of existing rail facilities and new facilities. Through previous studies, FRA has identified three possible corridors for evaluation as part of the Tier 1 EIS and SDP: The existing Norfolk Southern rail corridor, the existing I-85 corridor, and a general Greenfield corridor. FRA may also consider other reasonable alternatives.

FRA is issuing this NOI to alert the public and agencies about the preparation of the Tier 1 EIS and associated SDP, to solicit public and agency input into the development of the scope of the Tier 1 EIS, and to advertise that public outreach activities conducted by FRA and GDOT will be considered in preparation of the Tier 1 EIS. To ensure that significant issues are identified and considered, interested parties are invited to comment on the proposed scope of environmental review, purpose and need, alternatives to be considered, environmental effects to be considered and evaluated, and methodologies to be used for evaluating effects.

I. Environmental Review Process

The Tier 1 EIS will be developed in accordance with the CEQ regulations (40 CFR part 1500 et. seq.) for implementing NEPA (42 U.S.C. 4321 et. seq.), and FRA's Procedures for Considering Environmental Impacts (64 CFR part 101). The Study will consider passenger rail alternatives that could include the use of interstate right-of-way and thus the Tier 1 EIS will follow the USDOT Order 5610.1C; Federal Highway Administration (FHWA) environmental impact and related procedures (23 CFR part 771); USDOT, FHWA Advisory T6640.80, Guidance for Preparing and Processing Environmental Documents and Section 4(f) documents; Federal-Aid Policy Guide 23 CFR parts 770, 772, 777; Safe, Accountable, Flexible, and Efficient Transportation Equity Act—A Legacy for Users (SAFETEA-LU); Moving Ahead for Progress in the 21st Century Act (MAP-21); and other applicable state and federal regulations.

The Study involves a federal undertaking with the potential to affect historic properties. As such, it is subject to the requirements of Section 106 of the National Historic Preservation Act of 1966 (NHPA) (16 U.S.C. 470(f)). In accordance with regulations issued by the Advisory Council on Historic Preservation (36 CFR part 800), FRA intends to coordinate compliance with Section 106 of the NHPA with the preparation of the Tier 1 EIS, beginning with the identification of consulting parties through the scoping process, in a manner consistent with the standards set out in 36 CFR 800.8. The Tier 1 EIS will comply with the 1990 Clean Air Act Amendments, Executive Order 12898 (Federal Actions to Address Environmental Justice in Minority and Low-Income Populations), Executive Order 11990 (Protection of Wetlands), and other applicable federal laws, rules, and regulations.

FRA and GDOT will use a tiered process, as provided for in 40 CFR 1508.28, in the completion of the environmental review. “Tiering” is a staged environmental review process applied to environmental reviews for complex projects. The Tier 1 EIS will address the first tier of broad corridor issues and alternatives. Subsequent project-level second tier NEPA evaluations will analyze site-specific projects based on the decisions made at the Tier 1 Level. The Tier 1 NEPA assessment will result in an EIS with the appropriate level of detail for corridor decisions and will address broad overall issues of concern, including but not limited to:

• Articulation and confirmation of the purpose and need for the proposed action;

• Definition of the study area appropriate to assess reasonable alternatives;

• Identification of a comprehensive set of goals and objectives for the corridor in conjunction with stakeholders. These goals and objectives will be crafted to allow comprehensive evaluation of aspects of the action necessary to achieve the goals, including train operations, vehicles, and infrastructure;

• Identification of the range of reasonable alternatives to be considered, consistent with the current and planned use of the corridor and the existing services within and adjacent to the study area, including changing the existing rail corridor from one track to two tracks, considering a fully grade-separated route, considering an alternative “greenfield corridor” between Atlanta and Charlotte, and considering a no build alternative;

• Development of alternative screening evaluation criteria to identify alternatives that meet the need and purpose of the proposed action;

• Identification of the general alignment(s) of the reasonable alternatives;

• Identification of the infrastructure and equipment investment requirements for the reasonable alternatives;

• Identification of the operational changes required for the reasonable alternatives;

• Description of the corridor-level environmental impacts associated with the proposed changes in passenger rail train frequency, speed, and on-time performance;

• Characterization of the corridor-level environmental consequences of the reasonable alternatives;

• Evaluation and consideration of the potential for environmental impacts associated with the reasonable alternatives;

• Identification of a preferred alternative for a corridor route alignment;

• Development of an incremental investment approach for evaluation of corridors;

• Establishment of independent actions and Tier 2 projects to implement the proposed action and maintain a state of good repair; and

• Establishment of appropriate timing and sequencing of Tier 2 projects.

The Tier 1 EIS will address broad corridor-level issues and alternatives for passenger rail development in the corridor. Subsequent, Tier 2 environmental reviews will be completed to analyze site-specific component projects and alternatives based on the decisions made in Tier 1 and projects identified within the Tier 1 EIS and Record of Decision (ROD).

II. Background

The Atlanta-Charlotte Corridor faces mobility challenges. Transportation demand and travel growth is outpacing existing and planned roadway capacity in the area. If these challenges go unaddressed, they will negatively influence the local, regional, and national economy. The investment in passenger rail is an essential strategy to foster the Southeast region's multimodal transportation system and its ability to support population and economic growth throughout the SEHSR network.

Specifically, the preliminary purpose of the Study is to improve inter- and intrastate linkage, supplement capacity, improve travel time and reliability, provide another reliable mode choice, create jobs, reduce dependence on foreign oil, and support economic development. The Tier 1 EIS and SDP will consider feasible and reasonable alternatives and will comparatively evaluate the reasonable alternatives and service alternatives to select a preferred alternative for development of high-speed rail. Based on the 2008 Volpe Center Report Evaluation of High-Speed Rail Options in the Macon-Atlanta-Greenville-Charlotte Rail Corridor (2008 Volpe Center Report), three alternative corridors have been identified for further consideration: The existing Norfolk Southern Railroad corridor, the existing I-85 interstate highway corridor, and a general Greenfield corridor. Technology options ranging from 90 mile per hour (mph) diesel-electric operations to 200 mph electrified operations in a fully grade-separated route, as identified in the 2008 Volpe Center Report, will be evaluated in the Tier 1 EIS and SDP.

The Tier 1 EIS will evaluate the identified, preliminary alternatives set forth in the 2008 Volpe Center Report and include a No Build Alternative and other potentially reasonable Build Alternatives. The No Build Alternative will serve as the baseline for comparison of alternatives. The No Build Alternative represents the existing transportation network including the physical characteristics and capacities of all transportation modes as they exist at the time of the Tier 1 EIS, with planned and funded improvements that will be in place at the time the service would become operational. The Build Alternatives will be developed at a corridor level and will address travel markets, services, operations, general alignments and station locations.

III. Scoping and Comments

FRA encourages broad participation in the Tier 1 EIS process during scoping and review of the resulting environmental documents. To ensure that the full range of issues related to this proposed action are addressed and that significant issues are identified, comments and suggestions are invited from all interested parties. In particular, FRA is interested in identifying areas of environmental concern where there might be a potential for significant impacts. Public agencies with jurisdiction are requested to advise FRA and GDOT of the applicable permit and environmental review requirements of each agency, and the scope and content of the environmental information that is germane to the agency's statutory responsibilities in connection with the proposed Study. Public agencies are requested to advise FRA if they anticipate taking a major action in connection with the proposed Study and if they wish to cooperate in the preparation of the EIS. Public scoping will be scheduled and is an important component of the scoping process for both the State and Federal environmental review. The scoping meetings described in this NOI will also be the subject of additional public notification.

FRA is seeking participation and input of interested Federal, State, and local agencies, Native American groups, and other concerned private organizations and individuals on the scope of the EIS.

Issued in Washington, DC, on May 13, 2013.
Corey Hill,
Director, Office of Passenger and Freight Programs.

[FR Doc. 2013-11701 Filed 5-15-13; 8:45 am]

BILLING CODE 4910-06-P